DEPARTMENT OF LABOR

Employment and Training Administration

[TA-W-40,780]

O-Z/Gedney Company, Division of EGS Electrical Group, Brooklyn, New York; Notice of Termination of Investigation

Pursuant to section 221 of the Trade Act of 1974, an investigation was initiated on February 11, 2002, in response to a worker petition which was filed on behalf of workers at O-Z/Gedney Company, Division of EGS Electrical Group, Brooklyn, New York.

The petitioners were separated from the subject firm more than a year prior to the petition dated January 9, 2002. Section 223(b)(1) of the Trade Act of 1974 specifies that no certification may apply to any worker whose last separation occurred more than a year before the date of the petition. Consequently, further investigation in this case would serve no purpose, and the investigation has been terminated.

Signed at Washington, DC this 15th day of April, 2002.
Linda G. Poole,
Certifying Officer, Division of Trade Adjustment Assistance.

[FR Doc. 02-10049 Filed 4-23-02; 8:45 am]

BILLING CODE 4510-30-M